Title 3—

The President

Proclamation 8321 of November 20, 2008

National Family Week, 2008

By the President of the United States of America

A Proclamation

During National Family Week, we reflect on the important values and character that families instill in their children and in our society.

Families offer a stable and nurturing environment for children by providing support and comfort. A child's parents, siblings, grandparents, aunts and uncles, and other family members show them love and teach them right from wrong. Strong families set a positive example and help young people grow into compassionate and responsible citizens.

My Administration believes families strengthen our communities and help shape the character and future of our Nation. Over the years, we have demonstrated our deeply held commitment to supporting America's families by signing laws that respect the sanctity of life, lower taxes, double the child tax credit, reduce the marriage penalty, and empower parents to make choices about their children's education. In addition, the Helping America's Youth initiative, led by First Lady Laura Bush, is dedicated to raising awareness about the importance of positive youth development by keeping children connected to family, school, and community.

National Family Week is also a time to show our appreciation to our Nation's military families. We recognize their sacrifices, and we pray for their loved ones in the Armed Forces who are laying a foundation of peace for future generations. We owe a debt of gratitude to the brave men and women who have answered the call to serve our country and their families who support them.

NOW, THEREFORE, I, GEORGE W. BUSH, President of the United States of America, by virtue of the authority vested in me by the Constitution and laws of the United States, do hereby proclaim November 23 through November 29, 2008, as National Family Week. I invite the States, communities, and all the people of the United States to join together in observing this week with appropriate ceremonies and activities to honor our Nation's families.

IN WITNESS WHEREOF, I have hereunto set my hand this twentieth day of November, in the year of our Lord two thousand eight, and of the Independence of the United States of America the two hundred and thirty-third.

[FR Doc. E8-27997

Filed 11-21-08; 8:45 am]

Billing code 3195-W9-P